POSTAL SERVICE

Addition of Round-Trip Mailer Product to the Competitive Product List

AGENCY: Postal Service™

ACTION: Notice.

SUMMARY: The Postal Service hereby provides notice that it has filed a request with the Postal Regulatory Commission to add a product called “Round-Trip Mailer” to the competitive product list.

DATES: Effective: August 29, 2013.

FOR FURTHER INFORMATION CONTACT: John F. Rosato, 202-268-8597.

SUPPLEMENTARY INFORMATION: On July 26, 2013, the United States Postal Service® filed with the Postal Regulatory Commission (Commission) a request to add a “Round-Trip Mailer” product to its competitive product list, pursuant to Commission Order No. 1793 and 39 U.S.C. 3642. The Round-Trip Mailer product would be identical to the existing First-Class Mail® round-trip option for DVD mail on the market-dominant product list. Documents pertinent to this request are available at http://www.prc.gov, Docket No. MC2013-57. The Governors' Decision and the record of proceedings in connection with the above filing are reprinted below in accordance with 39 U.S.C. 3632(b)(2).

Stanley F. Mires,
Attorney, Legal Policy & Legislative Advice.

Decision of the Governors of the United States Postal Service on Establishment of Rate and Classification of General Applicability for Competitive Round-Trip Mailer Product (Governors' Decision No. 13-01)

July 31, 2013

Statement of Explanation and Justification

In compliance with Order No. 1763 (June 26, 2013), and pursuant to section 3642 of title 39, United States Code, the Postal Service is pursuing a request with the Postal Regulatory Commission to add a new Competitive Round-Trip Mailer product to the competitive product list. And pursuant to our authority under section 404(b) and Chapter 36 of title 39, United States Code, the Governors establish price and classification changes for the new Round-Trip Mailer product.

The new Round-Trip Mailer product allows a mailer to send a letter-shaped or flat-shaped mailpiece to a subscriber and pay postage for the return of the contents of that mailpiece. The outbound pieces must be presorted, and the return piece is single-piece. The appropriate prices for First-Class Mail Presorted and Single-Piece letters are set as the prices for Return-Trip Mailer pieces (letters or flats). Qualifying pieces must include a standard 12 cm or smaller optical disc, and may include an invoice, receipt, instructional document, or advertisement that conforms to the exceptions or suspensions in the Private Express Statutes. Qualifying pieces must weigh no more than two (2) ounces.

We have reviewed management's analysis of this proposal. We have evaluated the new price and classification changes in this context in accordance with 39 U.S.C. §§ 3632-3633 and 39 C.F.R. §§ 3015.5 and 3015.7. We approve the changes, finding that they are appropriate, and are consistent with the regulatory criteria, as indicated by management.

Order

We approve of filing with the Postal Regulatory Commission appropriate notice of these classification and rate changes and requesting the needed addition to the competitive product list. The changes in price and class set forth therein shall be effective September 30, 2013, assuming the Commission approves the required addition to the product list under 39 C.F.R. § 3020 Subpart B.

By The Governors:

Mickey D. Barnett

Chairman

CERTIFICATION OF GOVERNORS' VOTE ON THE GOVERNORS' DECISION NO. 13-01

Consistent with 39 USC 3632(a), I hereby certify the that following Governors voted at the July 31, 2013, Board Meeting in favor of Governors' Decision No. 13-01:

Mickey D. Barnett

James H. Bilbray

Louis J. Giuliano

Dennis J. Toner

Ellen C. Williams

Date: July 31, 2013

Julie S. Moore

Secretary of the Board of Governors

[FR Doc. 2013-21160 Filed 8-28-13; 8:45 am]

BILLING CODE 7710-12-P